CHEMICAL SAFETY AND HAZARD INVESTIGATION BOARD

Sunshine Act; Notice of Meeting

In connection with its investigation into a natural gas explosion that occurred at the ConAgra production facility in Garner, North Carolina the United States Chemical Safety and Hazard Investigation Board (CSB) announces that it will hold a public meeting on February 4, 2010, in Garner, North Carolina to consider urgent recommendations to the National Fire Protection Association (NFPA), the American Gas Association (AGA) and the Chair of the NFPA 54/ANSI Z223.1 Committee that result from its investigation of this incident.

The meeting will begin at 6 p.m. in the Oak Forrest Ballroom at the Sheraton Raleigh Hotel, 421 Salisbury St., Raleigh, North Carolina. The meeting is free and open to the public. Pre-registration is not required, but to assure adequate seating, attendees are encouraged to pre-register by emailing their names and affiliations to ConAgra@CSB.gov. by January 29, 2010.

On June 9, 2009, the ConAgra Slim Jim production facility in Garner, North Carolina, experienced a catastrophic natural gas explosion that caused four deaths, three critical life-threatening burn injuries, an amputation, and other injuries that sent a total of 71 people to the hospital. The explosion caused serious structural damage to 100,000 square feet of the packaging area of the plant, including wall and roof collapse, which had the potential to cause additional deaths and serious injuries.

The accident occurred during the installation and commissioning of a new gas-fired industrial water heater, manufactured by Energy Systems Analysts, Inc. (ESA). On the day of the accident, an ESA worker was attempting to purge the new gas piping of air by opening the supply of gas, prior to the start-up of the water heater. The purged gas was piped directly into the room rather than being vented to the outside. Some ConAgra employees smelled gas in the packaging area, others did not. Personnel who were in and out of the utility room noticed the gas odor but most were not seriously concerned and considered the purging activity to be a normal part of the start-up process. The ESA and ConAgra employees were not aware that as a result of the purging, a dangerous release of natural gas had occurred into the building, exceeding the lower explosive limit (LEL).

The vicinity of the utility room contained numerous potential ignition sources, including multiple unclassified electrical devices. Nonessential personnel were neither aware of the water heater start-up nor instructed to leave the plant during the gas line purging activity. Over 200 people who had no role in the installation were in the building at the time of the explosion.

At the meeting, the CSB investigative team will present its preliminary findings supporting the need for urgent recommendations arising from this incident to the CSB Board and the public. The Board will then ask questions of the team. At the end of the panel discussion, the Board will consider the urgent recommendations proposed by the staff. At the end of the Board's deliberations, the Board may decide to proceed to vote to formally approve the draft urgent recommendations.

The meeting will be videotaped and an official transcript will be included in the investigative file. All staff presentations are preliminary and are intended solely to allow the Board to consider the issues and factors involved in this case in a public forum. No factual analyses, conclusions, findings or recommendations of the staff should be considered final. Only after the Board has considered and approved the urgent recommendations will there be an approved final record.

Christopher W. Warner,
General Counsel.

[FR Doc. 2010-840 Filed 1-13-10; 4:15 pm]

BILLING CODE 6350-01-P